DEPARTMENT OF LABOR

Employment and Training Administration

[TA-W-42,310]

Inteplast Group Ltd., Integrated Bagging Systems, Lolita, TX; Notice of Revised Determination on Reconsideration

By application of February 21, 2003, petitioners requested administrative reconsideration regarding the Department's Negative Determination Regarding Eligibility to Apply for Worker Adjustment Assistance, applicable to the workers of the subject firm.

The initial investigation resulted in a negative determination issued on February 13, 2003, based on the finding that imports of plastic bags did not contribute importantly to worker separations at the Lolita plant. The denial notice was published in the Federal Register on March 10, 2003 (68 FR 11409).

To support the request for reconsideration, the petitioner supplied additional information to supplement that which was gathered during the initial investigation. Upon further review and contact with the company, it was revealed that sales and production did decline in the relevant period. As a result of this finding, a customer survey which was conducted in the original investigation became relevant to establishing import impact. Results from this survey revealed that a major declining customer increased their imports of plastic bags while decreasing their purchases from the subject firm in the relevant period.

Conclusion

After careful review of the additional facts obtained on reconsideration, I conclude that increased imports of articles like or directly competitive with those produced at Inteplast Group, LTD., Integrated Bagging Systems, Lolita, Texas, contributed importantly to the declines in sales or production and to the total or partial separation of workers at the subject firm. In accordance with the provisions of the Act, I make the following certification:

All workers of Inteplast Group, LTD., Integrated Bagging Systems, Lolita, Texas, who became totally or partially separated from employment on or after October 7, 2001 through two years from the date of this certification, are eligible to apply for adjustment assistance under Section 223 of the Trade Act of 1974.

Signed in Washington, DC, this 26th day of March 2003.
Edward A. Tomchick,
Director, Division of Trade Adjustment Assistance.

[FR Doc. 03-8850 Filed 4-9-03; 8:45 am]

BILLING CODE 4510-30-P